Title 3—

The President

Notice of September 22, 2000

Continuation of Emergency With Respect to UNITA

On September 26, 1993, by Executive Order 12865, I declared a national emergency to deal with the unusual and extraordinary threat to the foreign policy of the United States constituted by the actions and policies of the National Union for the Total Independence of Angola (UNITA), prohibiting the sale or supply by United States persons or from the United States, or using U.S. registered vessels or aircraft, of arms, related materiel of all types, petroleum, and petroleum products to the territory of Angola, other than through designated points of entry. The order also prohibits the sale or supply of such commodities to UNITA. On December 12, 1997, in order to take additional steps with respect to the national emergency declared in Executive Order 12865, I issued Executive Order 13069, closing all UNITA offices in the United States and imposing additional sanctions with regard to the sale or supply of aircraft or aircraft parts, the granting of take-off, landing and overflight permission, and the provision of certain aircraft-related services. On August 18, 1998, in order to take further steps with respect to the national emergency declared in Executive Order 12865, I issued Executive Order 13098, blocking all property and interests in property of UNITA and designated UNITA officials and adult members of their immediate families, prohibiting the importation of certain diamonds exported from Angola, and imposing additional sanctions with regard to the sale or supply of equipment used in mining, motorized vehicles, watercraft, spare parts for motorized vehicles or watercraft, mining services, and ground or waterborne transportation services.

Because of our continuing international obligations and because of the prejudicial effect that discontinuation of the sanctions would have on prospects for peace in Angola, the national emergency declared on September 26, 1993, and the measures adopted pursuant thereto to deal with that emergency, must continue in effect beyond September 26, 2000. Therefore, in accordance with section 202(d) of the National Emergencies Act (50 U.S.C. 1622(d)), I am continuing the national emergency with respect to UNITA.

This notice shall be published in the Federal Register and transmitted to the Congress.

wj

THE WHITE HOUSE,

September 22, 2000.

[FR Doc. 00-24800

Filed 9-22-00; 1:09 pm]

Billing code 3195-01-P